DEPARTMENT OF TRANSPORTATION

Federal Aviation Administration

Proposed Revision to Advisory Circular 43.13-2A, “Acceptable Methods, Techniques, and Practices—Aircraft Alterations”

AGENCY: Federal Aviation Administration (FAA), DOT.

ACTION: Request for comments.

SUMMARY: The Federal Aviation Administration (FAA) is seeking advance comments on the agency's plan to update and revise Advisory Circular (AC) 43.13-2A, Acceptable Methods, Techniques, and Practices—Aircraft Alterations. The subject AC was last revised in 1977 and needs to be revised to reflect advances in aviation technology. The comments from the public will be used in developing an updated version of the AC.

DATES: Submit comments on or before June 9, 2005.

ADDRESSES: Address your comments to William O'Brien, Aircraft Maintenance Division, Federal Aviation Administration, 800 Independence Ave., SW., Washington, DC 20591.

FOR FURTHER INFORMATION CONTACT: William O'Brien, Aircraft Maintenance Division, Federal Aviation Administration, 800 Independence Ave. SW., Washington, DC 20591; telephone (202) 267-3796, facsimile (202) 267-5115, e-mail william.o'brien@faa.gov.

SUPPLEMENTARY INFORMATION: The Federal Aviation Administration (FAA) is seeking advance comments on the agency's plan to update and revise Advisory Circular (AC) 43.13-2A, Acceptable Methods, Techniques, and Practices—Aircraft Alterations. This AC provides information to mechanics and repair stations on how to perform simple alterations to non-pressurized, certificated aircraft weighing less than 12,500 pounds. The AC was last updated in 1977 and was published in the old U.S. Government Printing Office format with the uninterrupted running of page numbers that makes tracking changes and revisions to the AC difficult.

The FAA plans to include a new policy that would allow mechanics and repair stations to use acceptable data as approved data for major alterations to certain non-pressurized aircraft. The new policy would apply to a landplane, seaplane, or floatplane, fixed gear aircraft of 6,000 pounds or less maximum gross weight, of 4 seats or less, and with a reciprocating engine of 200 horsepower or less. This new policy would be similar to the policy on acceptable data contained in AC 43.13-1B, Acceptable Methods, Techniques, and Practices—Aircraft Inspection and Repair. The intent of the new policy would be to reduce the need for field approvals for alterations to certain non-pressurized aircraft without reducing the level of safety. The new policy would reduce the workload on the Flight Standards Districts Office inspectors and reduce the waiting time for FAA approval.

Comments Invited

The FAA is requesting comments on the proposed policy change and on other matters related to the subject AC. Comments, recommendations, new data, or corrections should indicate the appropriate AC chapter, page, and paragraph number when possible. Indicate on your comments that they are for Advisory Circular 43.13-2A, Acceptable Methods, Techniques, and Practices—Aircraft Alterations.

An electronic copy of the current AC 43.13-2A is available on the FAA's “Regulatory Guidance Library” Web site at http://www.airweb.faa.gov/rgl or by contacting the individual under FOR FURTHER INFORMATION CONTACT.

Dated: Issued in Washington, DC on May 28, 2004.
John M. Allen,
Deputy Director, Flight Standards Service.

[FR Doc. 04-12987 Filed 6-8-04; 8:45 am]

BILLING CODE 4910-13-M